RAILROAD RETIREMENT BOARD

Computer Matching and Privacy Protection Act of 1988; Report of Matching Program: RRB and State Medicare Agencies

AGENCY: Railroad Retirement Board (RRB).

ACTION: Notice of records used in computer matching programs; Notification to individuals who are beneficiaries under the Railroad Retirement Act.

SUMMARY: As required by the Computer Matching and Privacy Protection Act of 1988, the RRB is issuing a public notice of its use and intent to use, in ongoing computer matching programs. In this match, we provide certain Medicare and benefit rate information to state agencies to adjust amounts of benefits in their public assistance programs as well as to coordinate Medicare/Medicaid payments for public assistance recipients.

The purpose of this notice is to advise individuals receiving benefits under the Railroad Retirement Act of the disclosure through a computer match that RRB plans to share with state agencies.

DATES: Submit comments on or before November 24, 2010.

ADDRESSES: Address any comments concerning this notice to Beatrice Ezerski, Secretary to the Board, Railroad Retirement Board, 844 North Rush Street, Chicago, Illinois 60611-2092.

FOR FURTHER INFORMATION CONTACT: Mr. Timothy Grant, Chief Privacy Officer, Railroad Retirement Board, 844 North Rush Street, Chicago, Illinois 60611-2092, telephone number (312) 751-4869 or e-mail at tim.grant@rrb.gov.

SUPPLEMENTARY INFORMATION: Under certain circumstances, the Computer Matching and Privacy Protection Act of 1988, Public Law 100-503, requires a Federal agency participating in a computer matching program to publish a notice in the Federal Register regarding the establishment of that matching program. Such a notice must include information in the following first five categories:

Name of Participating Agencies: The Railroad Retirement Board and state public aid/public assistance agencies.

Purpose of the Match: The match has several purposes to enable the state agency to:

(1) Accurately identify Qualified Railroad Retirement Beneficiaries;

(2) Make necessary adjustments required under state law in public aid payments due to cost of living or other adjustments in RRB annuities;

(3) Coordinate benefits of dually eligible Medicare and Medicaid beneficiaries; and

(4) To identify individuals who are eligible for Part B Medicare and not enrolled in order to enroll such individuals in the State Buy-In program.

Authority for Conducting the Match: 20 CFR 200.5(j)(1), 20 CFR 200.8(g)(10), 42 CFR 435.940 through 435.965.

Categories of Records and Individuals Covered: All beneficiaries under the Railroad Retirement Act who have been identified by a state as a recipient of public aid will have information about their RRB benefits and Medicare enrollment furnished to the requesting state agency. This information is covered as a routine disclosure under either the Privacy Act system of records RRB-20, Health Insurance and Supplementary Medical Insurance Enrollment and Premium Payment System (MEDICARE), or RRB-21, Railroad Unemployment and Sickness Insurance Benefit System.

Inclusive Dates of the Matching Program: Agreements with the individual states will run for 18 months with a provision for an automatic, one-time 12-month renewal. In order to qualify for the renewal, both parties must certify to the RRB Data Integrity Board, three months prior to the expiration of the agreement that:

(1) The program will continue to be conducted without change, and

(2) Each party certifies to the board in writing that the program has been conducted in compliance with the agreement.

The number of matches conducted with each state during the period of the match will vary from state to state, ranging from 2 to 4 depending on whether the agreement provides for matches to be conducted quarterly or every six months.

Procedure: The state agency will provide the RRB with a file of records. The data elements will consist of beneficiary identifying information, such as the name and Social Security Number (SSN), date of birth, and RRB Claim Number, if known. The RRB will then conduct a match on the identifying information.

If the matching operation reveals that the individual who had received benefits under the Railroad Retirement Act also received benefits from the state for any days in the period, the RRB will notify the state agency and provide benefit payment and Medicare Entitlement data for those matched individuals. The state agency will then make adjustments, as necessary, as required by law or regulation for those matched records.

Other information: The notice we are giving here is in addition to any individual notice.

We will furnish a copy of this notice to both Houses of Congress and the Office of Management and Budget.

By Authority of the Board.
Beatrice Ezerski,
Secretary to the Board.

[FR Doc. 2010-25974 Filed 10-14-10; 8:45 am]

BILLING CODE 7905-01-P